DEPARTMENT OF ENERGY

Federal Energy Regulatory Commission

18 CFR Part 40

[Docket No. RM08-3-000]

Mandatory Reliability Standard for Nuclear Plant Interface Coordination; Notice of Extension of Time

April 16, 2008.

AGENCY: Federal Energy Regulatory Commission, DOE.

ACTION: Notice of Proposed Rulemaking; extension of comment period.

SUMMARY: On March 20, 2008, the Commission issued a Notice of Proposed Rulemaking proposing to approve the Nuclear Plant Interface Coordination Reliability Standard developed by the North American Electric Reliability Corporation (NERC). The date for filing comments on the proposed rule is being extended at the request of the Edison Electric Institute and the Nuclear Energy Institute.

DATES: Comments are due May 13, 2008.

ADDRESSES: Interested persons may submit comments, identified by Docket No. RM08-3-000, by any of the following methods:

• eFiling: Comments may be filed electronically via the eFiling link on the Commission's Web site at http://www.ferc.gov. Documents created electronically using word processing software should be filed in the native application or print-to-PDF format and not in a scanned format. This will enhance document retrieval for both the Commission and the public. The Commission accepts most standard word processing formats and commenters may attach additional files with supporting information in certain other file formats. Attachments that exist only in paper form may be scanned. Commenters filing electronically should not make a paper filing. Service of rulemaking comments is not required.

• Mail/Hand Delivery: Commenters that are not able to file electronically must mail or hand deliver an original and 14 copies of their comments to: Federal Energy Regulatory Commission, Secretary of the Commission, 888 First Street, NE., Washington, DC 20426.

Instructions: For detailed instructions on submitting comments and additional information on the rulemaking process, see the Comment Procedures section of this document.

FOR FURTHER INFORMATION CONTACT: Richard M. Wartchow (Legal Information), Office of the General Counsel, Federal Energy Regulatory Commission, 888 First Street, NE., Washington, DC 20426, (202) 502-8744. Christy Walsh (Legal Information), Office of the General Counsel, Federal Energy Regulatory Commission, 888 First Street, NE., Washington, DC 20426, (202) 502-6523. Robert Snow (Technical Information), Office of Electric Reliability, Division of Reliability Standards, Federal Energy Regulatory Commission, 888 First Street, NE., Washington, DC 20426, (202) 502-6716.

SUPPLEMENTARY INFORMATION: On April 15, 2008, the Edison Electric Institute (EEI) and the Nuclear Energy Institute (NEI) filed a joint motion for an extension of the date for filing comments on the Commission's Notice of Proposed Rulemaking issued March 20, 2008, in the above-referenced proceeding. Mandatory Reliability Standard for Nuclear Plant Interface Coordination, 122 FERC ¶ 61,254 (March 20, 2008) (NOPR). In support of this request, the motion states that EEI and NEI members, who will be required to comply with the Reliability Standard proposed in the Commission's NOPR, represent a broad spectrum of the nation's shareholder-owned electric companies, international affiliates and all levels of the commercial nuclear energy industry. EEI and NEI state that because of the complex nature of the issues addressed in the NOPR and the importance of submitting a well-developed response, additional time is needed to file comments on the Commission's proposed rulemaking.

Upon consideration, notice is hereby given that an extension of time for filing comments on the Commission's NOPR is granted to and including May 13, 2008.

Kimberly D. Bose,
Secretary.

[FR Doc. E8-8615 Filed 4-22-08; 8:45 am]

BILLING CODE 6717-01-P